ENVIRONMENTAL PROTECTION AGENCY

[EPA-R05-SFUND-2023-0334; FRL-11151-01-R8]

Administrative Settlement Agreement for Response Action by Bona Fide Prospective Purchaser, Central City/Clear Creek Superfund Site, Four Points Funding, LLC, Clear Creek County, Colorado

AGENCY: Environmental Protection Agency (EPA).

ACTION: Notice of proposed agreement; request for public comment.

SUMMARY: Notice is hereby given by the U.S. Environmental Protection Agency (EPA), Region 8, of a prospective administrative settlement agreement for response action between the United States, the State of Colorado, and Four Points Funding, LLC, at the Central City/Clear Creek Superfund Site in Clear Creek County, Colorado (Agreement).

DATES: Comments must be submitted on or before August 31, 2023.

ADDRESSES: The proposed agreement and additional background information relating to the agreement will be available upon request and will be posted at https://www.epa.gov/superfund/centralcity. Comments and requests for an electronic copy of the proposed agreement should be addressed to Crystal Kotowski-Edmunds, Enforcement Specialist, Superfund and Emergency Management Division, Environmental Protection Agency—Region 8, Mail Code 8SEM-PAC, 1595 Wynkoop Street, Denver, Colorado 80202, or telephone number: (303) 312-6124, or email address: edmunds.crystal@epa.gov and should reference the Central City/Clear Creek Superfund Site.

You may also send comments, identified by Docket ID No. EPA-R08-SFUND-2022-0281 to http://www.regulations.gov. Follow the online instructions for submitting comments.

FOR FURTHER INFORMATION CONTACT: Amelia Piggott, Assistant Regional Counsel, Office of Regional Counsel, Environmental Protection Agency, Region 8, Mail Code 8 ORC-LEC,1595 Wynkoop, Denver, Colorado 80202, telephone number: (303) 312-6410, email address: piggott.amelia@epa.gov.

SUPPLEMENTARY INFORMATION: The agreement provides that Purchaser shall characterize contamination at its Property and, as necessary, address the contamination.

In exchange, the United States and the State of Colorado will provide a covenant not to sue Four Points Funding, LLC for Existing Contamination, work (including subsurface and surface sampling) conducted by Four Points Funding, LLC, and certain payments as defined in the agreement (oversight costs, defined in the agreement as “response costs.”

For thirty (30) days following the date of publication of this document, the Agency will receive written comments relating to the agreement. The Agency will consider all comments received and may modify or withdraw its consent to the agreement if comments received disclose facts or considerations that indicate that the agreement is inappropriate, improper, or inadequate.

Ben Bielenberg,
Acting Division Director, Superfund and Emergency Management Division, Region 8.

[FR Doc. 2023-16219 Filed 7-31-23; 8:45 am]

BILLING CODE 6560-50-P